DEPARTMENT OF ENERGY

Federal Energy Regulatory Commission

Combined Notice of Filings #1

Take notice that the Commission received the following electric corporate filings:

Docket Numbers: EC24-87-000.

Applicants: TrailStone Energy Marketing, LLC, Trailstone Renewables, LLC, Engelhart CTP (US) LLC.

Description: Joint application for authorization under Section 203 of the Federal Power Act of TrailStone Energy Marketing, LLC, et al.

Filed Date: 6/11/24.

Accession Number: 20240611-5265.

Comment Date: 5 p.m. ET 7/2/24.

Take notice that the Commission received the following electric rate filings:

Docket Numbers: ER23-2938-002; ER23-1445-002; ER23-2937-002; ER23-2939-002.

Applicants: Wolfskin Solar, LLC, Bird Dog Solar, LLC, Hobnail Solar, LLC, Blackwater Solar, LLC.

Description: Notice of non-material change in status of Blackwater Solar, LLC, et al.

Filed Date: 6/11/24.

Accession Number: 20240611-5255.

Comment Date: 5 p.m. ET 7/2/24.

Docket Numbers: ER24-839-001.

Applicants: EF Oxnard LLC.

Description: Report Filing: Supplement to Notice of Non-Material Change in Status to be effective N/A.

Filed Date: 6/10/24.

Accession Number: 20240610-5107.

Comment Date: 5 p.m. ET 7/1/24.

Docket Numbers: ER24-1740-001.

Applicants: Southern California Edison Company.

Description: Tariff Amendment: Amendment to South Georgia Formula Rate Revision to be effective 6/12/2024.

Filed Date: 6/11/24.

Accession Number: 20240611-5217.

Comment Date: 5 p.m. ET 6/21/24.

Docket Numbers: ER24-1760-001.

Applicants: PJM Interconnection, L.L.C.

Description: Tariff Amendment: Amendment of Amended ISA, SA No. 6876; AC2-141 in Docket ER24-1760 to be effective 6/17/2024.

Filed Date: 6/12/24.

Accession Number: 20240612-5000.

Comment Date: 5 p.m. ET 7/3/24.

Docket Numbers: ER24-1911-000.

Applicants: MidAmerican Central California Transco, LLC.

Description: Supplement to 04/30/2024, petition for limited waiver of MidAmerican Central California Transco LLC.

Filed Date: 6/11/24.

Accession Number: 20240611-5264.

Comment Date: 5 p.m. ET 6/18/24.

Docket Numbers: ER24-2252-000.

Applicants: Dogwood Energy LLC.

Description: Tariff Amendment: Notice of Cancellation of Market-Based Rate Tariff to be effective 6/13/2024.

Filed Date: 6/12/24.

Accession Number: 20240612-5027.

Comment Date: 5 p.m. ET 7/3/24.

Docket Numbers: ER24-2253-000.

Applicants: Southwest Power Pool, Inc.

Description: 205(d) Rate Filing: 4268 Blue Valley Grid GIA to be effective 5/23/2024.

Filed Date: 6/12/24.

Accession Number: 20240612-5056.

Comment Date: 5 p.m. ET 7/3/24.

Docket Numbers: ER24-2254-000.

Applicants: Southwest Power Pool, Inc.

Description: 205(d) Rate Filing: 3751R2 NorthWestern Energy NITSA and NOA to be effective 6/1/2024.

Filed Date: 6/12/24.

Accession Number: 20240612-5065.

Comment Date: 5 p.m. ET 7/3/24.

Docket Numbers: ER24-2255-000.

Applicants: NextEra Energy Transmission MidAtlantic, Inc., PJM Interconnection, L.L.C.

Description: 205(d) Rate Filing: NextEra Energy Transmission MidAtlantic, Inc. submits tariff filing per 35.13(a)(2)(iii: NEET MidAtlantic submits Revisions to OATT, Att. H-33B to be effective 8/12/2024.

Filed Date: 6/12/24.

Accession Number: 20240612-5074.

Comment Date: 5 p.m. ET 7/3/24.

Docket Numbers: ER24-2256-000.

Applicants: Arizona Public Service Company.

Description: 205(d) Rate Filing: Service Agreement No. 421, LGIA w/CAWCD & DESA to be effective 5/14/2024.

Filed Date: 6/12/24.

Accession Number: 20240612-5088.

Comment Date: 5 p.m. ET 7/3/24.

Docket Numbers: ER24-2257-000.

Applicants: Lockhart CL ESS I, LLC.

Description: Baseline eTariff Filing: Market-Based Rate Application to be effective 8/12/2024.

Filed Date: 6/12/24.

Accession Number: 20240612-5113.

Comment Date: 5 p.m. ET 7/3/24.

Docket Numbers: ER24-2258-000.

Applicants: Lockhart CL ESS II, LLC.

Description: Baseline eTariff Filing: Market-Based Rate Application to be effective 8/12/2024.

Filed Date: 6/12/24.

Accession Number: 20240612-5114.

Comment Date: 5 p.m. ET 7/3/24.

Docket Numbers: ER24-2259-000.

Applicants: PJM Interconnection, L.L.C.

Description: 205(d) Rate Filing: Amendment to ISA No. 4348, Queue No. AF1-027 to be effective 8/12/2024.

Filed Date: 6/12/24.

Accession Number: 20240612-5121.

Comment Date: 5 p.m. ET 7/3/24.

Docket Numbers: ER24-2260-000.

Applicants: Bear Swamp Power Company LLC.

Description: Baseline eTariff Filing: IROL-CIP Costs ISO-NE Schedule 17 Cost Recovery Rate Schedule to be effective 6/13/2024.

Filed Date: 6/12/24.

Accession Number: 20240612-5126.

Comment Date: 5 p.m. ET 7/3/24.

Docket Numbers: ER24-2261-000.

Applicants: Duke Energy Carolinas, LLC, Duke Energy Progress, LLC.

Description: 205(d) Rate Filing: Duke Energy Carolinas, LLC submits tariff filing per 35.13(a)(2)(iii: DEC-DEP Revisions to Joint OATT Formula Trans Rates Retail Rate Adj Mechanism to be effective 8/12/2024.

Filed Date: 6/12/24.

Accession Number: 20240612-5137.

Comment Date: 5 p.m. ET 7/3/24.

Docket Numbers: ER24-2262-000.

Applicants: PJM Interconnection, L.L.C.

Description: 205(d) Rate Filing: Amendment to ISA, SA No. 5463; Queue No. AB2-190 (amend) to be effective 8/12/2024.

Filed Date: 6/12/24.

Accession Number: 20240612-5155.

Comment Date: 5 p.m. ET 7/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 12, 2024.
Debbie-Anne A. Reese,
Acting Secretary.

[FR Doc. 2024-13402 Filed 6-17-24; 8:45 am]

BILLING CODE 6717-01-P